FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
17642N | Direct Shipping, Corp. dba Direct Shipping Line, 1371 South Santa Fe Avenue, Compton, CA 90221 | September 29, 2002.
16321N | Express Consolidation Systems Corp., 253 Academy Street, Jersey City, NJ 07306 | September 28, 2002.
9867N | Harro Schumacher dba Schumacher Cargo Lines, 2205 E. Carson Street, Unit B-4, Long Beach, CA 90810 | September 29, 2002.
17613N | Utopia Logistic New York, Inc., 149-35 177th Street, #104, Jamaica, NY 11434 | September 26, 2002.

Sandra L. Kusumoto,
Director, Bureau of Consumer Complaints and Licensing.

[FR Doc. 02-29507 Filed 11-19-02; 8:45 am]

BILLING CODE 6730-01-P